ENVIRONMENTAL PROTECTION AGENCY

40 CFR Part 180

[EPA-HQ-OPP-2013-0023; FRL-9904-98]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before March 24, 2014.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Robert McNally, Biopesticides and Pollution Prevention Division (BPPD) (7511P), email address: BPPDFRNotices@epa.gov; or Lois Rossi, Registration Division (RD) (7505P), email address: RDFRNotices@epa.gov; main telephone number: (703) 305-7090; Office of Pesticide Programs, Environmental Protection Agency, 1200 Pennsylvania Ave. NW., Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), (21 U.S.C. 346a), requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 3E8162. (EPA-HQ-OPP-2013-0714). Technology Sciences Group on behalf of Isagro S.p.A., 1150 18th Street NW., Suite 1000, Washington, DC 20036, requests to establish import tolerances in 40 CFR part 180 for residues of the fungicide benalaxyl-M, in or on grape at 1.1 parts per million (ppm); grape, juice at 1.1 ppm; grape, wine at 1.1 ppm; grape, raisin at 2.2 ppm; tomato at 0.25 ppm; and tomato, processed at 0.25 ppm. The liquid chromatography (LC) with a mass spectrometer (MS) detector is used to measure and evaluate residues of benalaxyl-M for the proposed uses. (RD)

2. PP 3E8212. (EPA-HQ-OPP-2013-0768). Interregional Research Project Number 4 (IR-4), 500 College Road East, Suite 201 W., Princeton, NJ 08540, requests to establish tolerances in 40 CFR part 180 for residues of the herbicide pendimethalin, [N-(1-ethylpropyl)-3,4-dimethyl-2,6-dinitrobenzenamine], and its metabolite, 4-[(1-ethylpropyl)amino]-2-methyl-3,5-dinitrobenzyl alcohol, calculated as the stoichiometric equivalent of pendimethalin, in or on berry, low growing subgroup 13-07G at 0.1 ppm; fruit, citrus, group 10-10 at 0.1 ppm; fruit, pome, group 11-10 at 0.1 ppm; fruit, stone, group 12-12 at 0.1 ppm; hops, dried cones at 0.1 ppm; onion, bulb subgroup 3-07A at 0.1 ppm; onion, green subgroup 3-07B at 0.2 ppm; sunflower, subgroup 20B at 0.1 ppm; and vegetable, fruiting, group 8-10 at 0.1 ppm. In plants, the analytical method is aqueous organic solvent extraction, column clean up, and quantitation by gas chromatography (GC). The method has a limit of quantitation (LOQ) of 0.05 ppm for pendimethalin and the alcohol metabolite. (RD)

Amended Tolerance

PP 3E8212. (EPA-HQ-OPP-2013-0768). Interregional Research Project Number 4 (IR-4), 500 College Road East, Suite 201 W., Princeton, NJ 08540, requests to remove the existing tolerances in 40 CFR 180.361 for residues of the herbicide pendimethalin, [N-(1-ethylpropyl)-3,4-dimethyl-2,6-dinitrobenzenamine], and its metabolite, 4-[(1-ethylpropyl)amino]-2-methyl-3,5-dinitrobenzyl alcohol, calculated as the stoichiometric equivalent of pendimethalin, in or on fruit, citrus, group 10 at 0.1 ppm; fruit, pome, group 11 at 0.1 ppm; fruit, stone, group 12 at 0.1 ppm; garlic at 0.1 ppm; leek at 0.20 ppm; onion, bulb at 0.1 ppm; onion, green at 0.20 ppm; onion, welsh at 0.20 ppm; shallot at 0.20 ppm; strawberry at 0.10 ppm; sunflower seed at 0.10 ppm; and vegetable, fruiting, group 8 at 0.10 ppm, upon establishment of the proposed tolerances listed in paragraph 2. under “New Tolerance”. (RD)

New Tolerance Exemption

1. PP 3E8181. (EPA-HQ-OPP-2013-0761). Interregional Research Project Number 4 (IR-4), 500 College Road East, Suite 201 W., Princeton, NJ 08540, requests to establish an exemption from the requirement of a tolerance for residues of the herbicide, Tobacco mild green mosaic tobamovirus U2 (TMGMV), in or on all commodities of crop group 17 (grass forage, fodder, and hay group) and crop group 18 (nongrass animal feeds (forage, fodder, straw, and hay) group). The petitioner believes no analytical method is needed because Tobacco mild green mosaic tobamovirus U2 is already present in the environment; therefore, any applied pesticide containing TMGMV would be indistinguishable from that which is naturally occurring. Additionally, since an exemption from the requirement of a tolerance is being requested, there is no need to analyze for pesticidal residues. (BPPD)

2. PP 2F8102. (EPA-HQ-OPP-2012-0963). BASF Corporation, 26 Davis Dr., Research Triangle Park, NC 27709, requests to establish an exemption from the requirement of a tolerance for residues of the fungicide, Trichoderma fertile strain JM41R, in or on all food commodities. The petitioner believes no analytical method is needed because, as proposed, the use of Trichoderma fertile strain JM41R would not result in residues that are of toxicological concern. (BPPD)

3. PP IN-10630. (EPA-HQ-OPP-2013-0756). Clariant Corporation, 4000 Monroe Road, Charlotte, NC 28205, requests to establish an exemption from the requirement of a tolerance for the use of secondary alkane (C13-C17) sulfonates (C13-C17 SAS) as pesticide inert ingredients (as surfactants) for use in food crops in accordance with 40 CFR 180.920 (pre-harvest) for seed treatment and foliar applications pursuant to section 408(d)(1) of the Federal Food, Drug, and Cosmetic Act (FFDCA). There are currently no approved non-food uses or food use tolerance exemptions for C13-C17 SAS as a pesticide inert ingredient. The following CAS Registry Numbers (CAS No.) are supported by way of this petition: Sulfonic acids, C13-C17 sec-alkane (CAS No. 85711-69-9); and sulfonic acids, C14-C17 sec-alkane (CAS No. 97489-15-1). The petitioner believes no analytical method is needed because it is not required for the establishment of a tolerance exemption for inert ingredients. (RD)

4. PP IN-16031. (EPA-HQ-OPP-2013-0757). Clariant Corporation, 4000 Monroe Road, Charlotte, NC 28205, requests to establish an exemption from the requirement of a tolerance for residues of C.I. Pigment Red 112 (CAS No. 6535-46-2), also known as 3-hydroxy-N-(2-methylphenyl)-4-[2-(2,4,5-trichlorophenyl)diazenyl]-naphthalene-2-carboxamide), as a seed treatment pigment, not to exceed 10% wt/wt, under 40 CFR 180.920 pursuant to section 408(d)(1) of the Federal Food, Drug, and Cosmetic Act (FFDCA). There are currently no approved non-food uses or food use tolerance exemptions for C.I. Pigment Red 112 as a pesticide inert ingredient. The petitioner believes no analytical method is needed because it is not required for the establishment of a tolerance exemption for inert ingredients. (RD)

Amended Tolerance Exemption

PP IN-10658. (EPA-HQ-OPP-2013-0796). Spring Trading Co., 10805W. Timberwagon Circle, Spring, TX 77380-4030, on behalf of Croda, Inc., 315 Cherry Lane, New Castle, DE 19720, requests to amend 40 CFR part 180.960 to establish an exemption from the requirement of tolerances for polyoxyalkylated trimethylopropanes with 20 to 80 moles of ethylene and/or propylene oxide, fatty acid esters with C8 through C22 aliphatic alkanoic and/or alkenoic fatty acids, branched or linear, the resulting polyoxyalkylene trimethylopropane esters having a minimum molecular weight of 1,500 in or on growing crops, pre- or post‐harvest or in products to treat animals. The requested CAS Nos. are: 25765-36-0; 29860-47-7; 37339-03-0; 52624-57-4; 58090-24-7; 63964-38-5; 72939-62-9; 74521-14-5; 75300-70-8; 75300-90-2; 84271-03-4; 84271-04-5; 86850-92-2; 107120-02-5; 133331-01-8; 137587-60-1; 149797-40-0; 149797-41-1; 150695-97-9; 152130-24-0; 163349-94-8; 163349-95-9; 163349-96-0; 163349-97-1; 163349-98-2; 165467-70-9; 183619-46-7; 183619-50-3; 185260-01-9; 202606-04-0; 210420-84-1; 233660-70-3; 263011-96-7; 283602-94-8; 701980-40-7; 872038-58-9; 875709-44-7; 875709-45-8; 875709-46-9; 875709-47-0; 879898-63-2; 910038-01-6; 1190748-04-9; 1225384-02-0; 1428944-41-5; and 1446498-15-2. An analytical method is not required for enforcement purposes since the Agency is establishing an exemption from the requirement of a tolerance without any numerical limitation. (RD)

List of Subjects in 40 CFR Part 180

Environmental protection, Agricultural commodities, Feed additives, Food additives, Pesticides and pests, Reporting and recordkeeping requirements.

Dated: February 10, 2014.
Lois Rossi,
Director, Registration Division, Office of Pesticide Programs.

[FR Doc. 2014-03728 Filed 2-20-14; 8:45 am]

BILLING CODE 6560-50-P